NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before January 2, 2008. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-00-38, 2 items, 2 temporary items). Master file and outputs associated with an electronic information system used to track installation populations for resource planning purposes. Data includes installation identifiers, unit identification codes, and installation population counts (number of officers, enlisted, and civilians).

2. Department of Defense, Office of the Secretary of Defense (N1-330-08-2, 1 item, 1 temporary item). Master file associated with an electronic information system used to track, manage, and report personnel data. Data includes personnel contact information, position identifiers, security clearances information, assignment data, and related data.

3. Department of Energy, Idaho Operations Office (N1-434-08-1, 1 item, 1 temporary item). Records relating to radiographs of fuel elements. This schedule authorizes the agency to apply the proposed disposition instructions to any recordkeeping medium.

4. Department of Health and Human Services, Food and Drug Administration (N1-88-06-3, 16 items, 11 temporary items). Non-significant correspondence, presentations and daily activities of senior officials; routine and administrative program correspondence and original correspondence after entry into an electronic recordkeeping system; electronic data associated with tracking temporary correspondence; and background working files. Proposed for permanent retention are significant correspondence, presentations and daily activities of senior officials, significant program correspondence, and electronic data associated with tracking permanent correspondence. This schedule authorizes the agency to apply the proposed disposition instructions to any recordkeeping medium.

5. Department of Justice, Federal Bureau of Investigation (N1-65-08-1, 8 items, 8 temporary items). Inputs, outputs, master file, transfer agreements and other records related to the Employee Relocation Manager system. This schedule authorizes the agency to apply the proposed disposition instructions to any recordkeeping medium.

6. Department of State, All Foreign Service Posts (N1-84-08-1, 8 items, 6 temporary items). Routine correspondence and case files relating to public diplomacy activities. Proposed for permanent retention are general public diplomacy program files and locally produced publications. This schedule authorizes the agency to apply the proposed disposition instructions to any recordkeeping medium, for temporary items.

7. Department of Transportation, Federal Railroad Administration (N1-399-07-20, 7 items, 5 temporary items). Records used to produce outreach materials for the public or Congress, including background information, news clippings, public service awards, and records relating to public service recognition week. Proposed for permanent retention are agency press releases and biographical information on agency officials. This schedule authorizes the agency to apply the proposed disposition instructions to any recordkeeping medium.

8. Federal Deposit Insurance Corporation, Agency-wide (N1-34-07-1, 313 items, 276 temporary items). Comprehensive agency schedule covering insured depository oversight records, administrative records, and operational records. Proposed for permanent retention are the minutes of the Board of Directors, program and policy records of the Board and divisions, failed financial institution records, and bank management simulation records.

9. Federal Housing Finance Board, Agency-wide (N1-485-08-1, 1 item, 1 temporary item). Records relating to policies and procedures for administrative functions such as travel, leave, procurement, and parking.

10. Federal Maritime Commission, Bureau of Certification and Licensing (N1-358-07-2, 7 items, 7 temporary items). Office of Passenger Vessels and Information Processing records including Performance Certificate and Casualty Certificate application case files; copies of Performance and Casualty Certificates; insurance policy and trust fund files; and copies of correspondence reading files. This schedule authorizes the agency to apply the proposed disposition instructions to any recordkeeping medium.

11. Federal Maritime Commission, Agency-wide (N1-358-07-3, 1 item, 1 temporary item). Master file for an electronic information system which provides a contact list of all entities that are regulated by or do business with the Commission. This schedule authorizes the agency to apply the proposed disposition instructions to any recordkeeping medium.

12. Federal Mediation and Conciliation Service, Office of Director and Chief of Staff (N1-280-06-1, 13 items, 7 temporary items). General correspondence, reading files, reference copies of official directives, working or background files, travel files, and congressional hearing and testimony files. Proposed for permanent retention are policy records of the Director, the Director's official calendar, official copies of directives, Director's speeches, presentations, and associated index, and Advisory Committee records.

13. Federal Mediation and Conciliation Service, Office of General Counsel (N1-280-06-2, 7 items, 6 temporary items). Correspondence, case files, subpoena files, inquiry request files, congressional inquiry files, and reports to the Office of Management and Budget and General Services Administration. Proposed for permanent retention are legal opinion files.

14. Federal Mediation and Conciliation Service, Department of Public Affairs (N1-280-07-2, 5 items, 2 temporary items). Records include reference and convenience files. Proposed for permanent retention are electronic publications, audio-visual records, and history files.

15. Federal Mediation and Conciliation Service, Office of Budget and Finance (N1-280-07-4, 14 items, 11 temporary items). Budget estimates, correspondence, special analysis and year end reports, reference copies of budget documents maintained by other offices, telecommunication letters, and other budget records. Proposed for permanent retention are the official published budget submission, correspondence of the Director, and the five year strategic plan.

Dated: November 23, 2007.
Michael J. Kurtz,
Assistant Archivist for Records Services—Washington, DC.

[FR Doc. E7-23381 Filed 11-30-07; 8:45 am]

BILLING CODE 7515-01-P